DEPARTMENT OF TRANSPORTATION

Pipeline and Hazardous Materials Safety Administration

[Docket No. PHMSA-2016-0154; Notice No. 2016-23]

Hazardous Materials: Information Collection Activities

AGENCY: Pipeline and Hazardous Materials Safety Administration (PHMSA), Department of Transportation (DOT).

ACTION: Notice and request for comments on Information Collection Approvals.

SUMMARY: This notice announces Office of Management and Budget (OMB) approval and extension for four Information Collection Requests (ICRs). Specifically, this notice announces the following: OMB approval and extension until February 28, 2018 for OMB Control No. 2137-0586, “Hazardous Materials Public Sector Training & Planning Grants”; OMB approval and extension until March 31, 2019 for OMB Control No. 2137-0628, “Flammable Hazardous Materials by Rail Transportation”; and OMB approval and extension until June 30, 2019 for both OMB Control No. 2137-0613, “Subsidiary Hazard Class and Number/Type of Packagings,” and OMB Control No. 2137-0510, “Radioactive (RAM) Transportation Requirements.”

DATES: The expiration dates for the ICRs approved by OMB are February 28, 2018; March 31, 2019; or June 30, 2019, as indicated under the SUPPLEMENTARY INFORMATION section of this notice.

ADDRESSES: Requests for a copy of an information collection should be directed to Steven Andrews or T. Glenn Foster, Office of Hazardous Materials Standards (PHH-12), Pipeline and Hazardous Materials Safety Administration, 1200 New Jersey Avenue SE., Washington, DC 20590-0001.

FOR FURTHER INFORMATION CONTACT: Steven Andrews or T. Glenn Foster, Office of Hazardous Materials Standards (PHH-12), Pipeline and Hazardous Materials Safety Administration, 1200 New Jersey Avenue SE., Washington, DC 20590-0001, Telephone (202) 366-8553.

SUPPLEMENTARY INFORMATION: OMB regulations (5 CFR part 1320) implementing provisions of the Paperwork Reduction Act of 1995 (Pub. L. 104-13) require that interested members of the public and affected agencies have an opportunity to comment on information collection and recordkeeping activities (see 5 CFR 1320.8(s)) and specify that no person is required to respond to an information collection unless it displays a valid OMB control number. In accordance with the Paperwork Reduction Act of 1995, PHMSA has received OMB approval for renewal of the following ICRs:

OMB Control Number: 2137-0586.

Title: “Hazardous Materials Public Sector Training & Planning Grants.”

Expiration Date: February 28, 2018.

OMB Control Number: 2137-0628.

Title: “Flammable Hazardous Materials by Rail Transportation.”

Expiration Date: March 31, 2019.

OMB Control Number: 2137-0613.

Title: “Subsidiary Hazard Class and Number/Type of Packagings.”

Expiration Date: June 30, 2019.

OMB Control Number: 2137-0510.

Title: “Radioactive (RAM) Transportation Requirements.”

Expiration Date: June 30, 2019.

Issued in Washington, DC, on January 11, 2017.
William S. Schoonover,
Associate Administrator, Pipeline and Hazardous Materials Safety Administration.

[FR Doc. 2017-00828 Filed 1-13-17; 8:45 am]

BILLING CODE 4910-60-P